DEPARTMENT OF COMMERCE

National Oceanic and Atmospheric Administration

50 CFR Part 600

[I.D. 021004B]

Magnuson-Stevens Act Provisions; General Provisions for Domestic Fisheries; Application for Exempted Fishing Permits (EFPs)

AGENCY: National Marine Fisheries Service (NMFS), National Oceanic and Atmospheric Administration (NOAA), Commerce.

ACTION: Notification of a proposal for EFPs to conduct experimental fishing; request for comments.

SUMMARY: The Assistant Regional Administrator for Sustainable Fisheries, Northeast Region, NMFS (Assistant Regional Administrator) has made a preliminary determination that the subject EFP application contains all the required information and warrants further consideration. The Assistant Regional Administrator has also made a preliminary determination that the activities authorized under the EFP would be consistent with the goals and objectives of the Northeast (NE) Multispecies Fishery Management Plan (FMP). However, further review and consultation may be necessary before a final determination is made to issue the EFP. Therefore, NMFS announces that the Assistant Regional Administrator proposes to recommend that an EFP be issued that would allow one commercial fishing vessel to conduct fishing operations that are otherwise restricted by the regulations governing the fisheries of the Northeastern United States. The EFP would allow for exemptions from the FMP as follows: the Gulf of Maine (GOM) Rolling Closure Areas; and the minimum fish size requirements, for the temporary retention of undersized fish for data collection purposes. All experimental work would be monitored by a Research Specialist from the Woods Hole Oceanographic Institution (WHOI).

Regulations under the Magnuson-Stevens Fishery Conservation and Management Act require publication of this notification to provide interested parties the opportunity to comment on applications for proposed EFPs.

DATES: Comments on this document must be received on or before March 3, 2004.

ADDRESSES: Comments on this notice may be submitted by e-mail. The mailbox address for providing e-mail comments is DA398@noaa.gov. Include in the subject line of the e-mail comment the following document identifier: “Comments on MWRA Harbor and Outfall Monitoring Project-Flounder Survey.” Written comments should be sent to Patricia A. Kurkul, Regional Administrator, NMFS, Northeast Regional Office, 1 Blackburn Drive, Gloucester, MA 01930. Mark the outside of the envelope “Comments on MWRA Harbor and Outfall Monitoring Project-Flounder Survey.” Comments may also be sent via facsimile (fax) to (978) 281-9135.

FOR FURTHER INFORMATION CONTACT: Brian Hooker, Fishery Management Specialist, phone 978-281-9220.

SUPPLEMENTARY INFORMATION: On January 26, 2004, NMFS received an application for an EFP from the WHOI in support of a Massachusetts Water Resources Authority (MWRA) project entitled “MWRA Harbor and Outfall Monitoring Project Phase 4--Flounder Survey.” Since 1991, Michael J. Moore of the WHOI has been contracted by the MWRA to conduct an annual survey of winter flounder health in the month of April. In 2003, a high prevalence of blind-side ulcers were observed in flounders from western Massachusetts Bay. Review of these data by the MWRA Outfall Monitoring Science Assessment Panel has led to the need to add to the sampling stations for 2004. In particular, it was deemed necessary to add three stations in Federal waters that are upstream from the Boston Outfall. These stations would be located in 30-minute square block numbers 123 and 124.

The experimental fishing trip would be an estimated 5 days in duration, covering a total of nine sampling stations: the three new stations in Federal waters, plus six stations in state waters. Sampling would consist of collecting 50 winter flounder larger than 12 inches (30.5 cm) in total length from each station. Once the target sample is reached, the vessel would move onto the next station until nine samples of 50 winter flounder have been reached. The researcher requests that the chartered research vessel be allowed to land legal-sized fish, caught during the execution of this project, for which the vessel is currently permitted. The estimated catch for all nine stations would be 3,600 lb (1,633 kg) of yellowtail flounder; 1,800 lb (816 kg) of cod; and 1,350 lb (612 kg) of winter flounder. The vessel would not be authorized to receive exemptions from days-at-sea regulations or possession limits for this EFP.

Authority: 16 U.S.C. 1801 et seq.

Peter H. Fricke,
Acting Director, Office of Sustainable Fisheries, National Marine Fisheries Service.

[FR Doc. 04-3392 Filed 2-13-04; 8:45 am]

BILLING CODE 3510-22-S